CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Disaster Response Database form to the Office of Management and Budget (OMB) for review and approval in accordance with the Paperwork Reduction Act of 1995, Public Law 104-13, (44 U.S.C. Chapter 35). Copies of this ICR, with applicable supporting documentation, may be obtained by calling the Corporation for National and Community Service, Mr. Phil Shaw, 202-606-6697 or pshaw@cns.gov. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on March 18, 2009. This comment period ended May 18, 2009. No public comments were received from this notice.

Description: Currently, the Corporation is soliciting comments concerning its proposed renewal of its Disaster Response Database (DRD). The DRD is a data collection tool that allows the Corporation to collect information from its programs and grantees on disaster response activities across the country. This tool serves as a central repository of information on Corporation disaster response activities for reporting to the public.

Type of Review: Renewal of existing information collection.

Agency: Corporation for National and Community Service.

Title: Disaster Response Database.

OMB Number: 3015-0114.

Agency Number: None.

Affected Public: Corporation for National and Community Service programs/grantees involved in disaster activities.

Total Respondents: 100 annually.

Frequency: Annually.

Average Time per Response: 30 minutes.

Estimated Total Burden Hours: 50 Hours.

Total Burden Cost (Capital/Startup): None.

Total Burden Cost (Operating/Maintenance): None.

Dated: June 11, 2009.
Kristin McSwain,
Chief of Program Operations.

[FR Doc. E9-14386 Filed 6-18-09; 8:45 am]

BILLING CODE 6050-$$-P